DEPARTMENT OF DEFENSE

Department of the Navy

Privacy Act of 1974; System of Records

AGENCY: Department of the Navy, DoD.

ACTION: Notice to delete two Systems of Records.

SUMMARY: The Department of the Navy is deleting two systems of records in its existing inventory of record systems subject to the Privacy Act of 1974 (5 U.S.C. 552a), as amended.

DATES: This proposed action will be effective without further notice on April 23, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The Department of Navy proposes to delete two systems of records notices from its inventory of record systems subject to the Privacy Act of 1974 (5 U.S.C. 552a), as amended. The proposed deletion is not within the purview of subsection (r) of the Privacy Act of 1974 (5 U.S.C. 552a), as amended, which requires the submission of new or altered systems reports.

Dated: March 19, 2008.
L.M. Bynum,
Alternate OSD Federal Register Liaison Officer, Department of Defense.

N05330-2

System Name:

Naval Aviation Workload Control System (February 22, 1993, 58 FR 10753).

Reason:

This system was replaced. The module for tracking time and attendance data now falls under NM07421-1, Time and Attendance Feeder Records (August 15, 2007, 72 FR 45798).

N05520-2

System Name:

Listing of Personnel/Sensitive Compartmented Information (February 22, 1993, 58 FR 10761).

Reason:

This information now comes under N05520-5, Personnel Security Management Records System (May 9, 2003, 68 FR 24974).

[FR Doc. E8-5877 Filed 3-21-08; 8:45 am]

BILLING CODE 5001-06-P